DEPARTMENT OF HEALTH AND HUMAN SERVICES

Centers for Disease Control and Prevention

[60-Day-13-0861]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Controlled Evaluation of Expect Respect Support Groups (ERSG): Preventing and Interrupting Teen Dating Violence among At-Risk Middle and High School Students (OMB No. 0920-0861, Expiration 8/31/2013)—Extension—National Center for Injury Prevention and Control (NCIPC), Centers for Disease Control and Prevention (CDC).

Background and Brief Description

The purpose of this request is to obtain Office of Management and Budget (OMB) approval to extend the data collection for A Controlled Evaluation of Expect Respect Support Groups (ERSG): Preventing and Interrupting Teen Dating Violence among At-Risk Middle and High School Students (OMB No.0920-0861, Expiration 8/31/2013). CDC seeks a three-year extension in order to continue: 1) evaluating the effectiveness of Expect Respect Support Groups (ERSG) in preventing and reducing teen dating violence and 2) comparing whether there are increased healthy conflict resolution skills reported by at-risk male and female middle and high school students participating in ERSG, compared to at-risk students in control schools who do not receive ERSG.

The prevalence and consequences of teen dating violence make it a public health concern that requires early and effective prevention. To date, only three prevention strategies—Safe Dates, the Youth Relationships Project, and 4th R—have demonstrated reductions in dating violence behaviors in rigorous, controlled evaluations. In order to protect young people and build an evidence-base of effective prevention strategies, evaluation of additional programs is needed, including those programs currently in the field. The Expect Respect Support Groups (ERSG; provided by SafePlace) program is currently being implemented in the Austin Independent School District and demonstrated promising results in an uncontrolled program evaluation, suggesting a controlled evaluation is warranted to more rigorously examine program effects.

The extension request to the controlled evaluation of ERSG, which began in September 2010, has one primary aim and two exploratory aims. The primary aim is to evaluate the effectiveness of ERSG to prevent and reduce teen dating violence and increase healthy conflict resolution skills reported by at-risk male and female middle and high school students compared to at-risk students in control schools who do not receive ERSG. The exploratory aims are: (1) To evaluate whether or not the effectiveness of ERSG is enhanced by the presence of a universal, school-wide prevention programs, and (2) To examine moderators and mediators of targeted and universal teen dating violence interventions, such as biological sex and history of abuse at intake. Completion of this study and examination of the primary and exploratory aims associated with it will help to fill a research gap by adding results to the evidence base regarding whether ERSG is a promising program for reducing the prevalence of teen dating violence and increasing knowledge of healthy relationship skills.

The ongoing evaluation employs a quasi-experimental/non-randomized design in which a convenience sample of participants in schools receiving universal and/or targeted prevention services are compared to students in control schools in which no dating violence prevention services are available.

Based on the previous two years of data collection for the ERSG evaluation, we anticipate that in the Austin Independent School District, 800 middle and high school students will undergo an intake assessment, of whom 600 at-risk students (i.e., students who indicate they have been exposed to violence in the home, community, or in dating or peer relationships) will be eligible for ERSG, of whom 400 will complete the baseline and completion assessments. Therefore, we will recruit 1,800 students (300 per year from intervention schools and 300 per year from control schools) over three waves of data collection. Of the 1,800 students recruited, we anticipate 1200 will have complete data at the end of the study period. Control schools have been selected that have characteristics (e.g., risk status, socio-economic status) similar to the Austin Independent School District intervention schools.

Survey items collect information about emotional, physical, and sexual peer and dating violence victimization and perpetration, use of healthy relationship skills, relationships characteristics, peer relationships, demographics, use of other teen dating violence prevention services, social desirability, and attitudes toward dating violence. These measures were developed in collaboration with scientists at the Centers for Disease Control and Prevention and (1) are adapted from validated measures of teen dating violence, and (2) reflect the behaviors of interest and theory of change of Expect Respect. The Reactive Proactive Questionnaire (Raine et al., 2006) has also been included in the instrument packet and will be used to determine if subtype of aggression moderates response to intervention.

Participation in this study is voluntary and intrusions to the participants' sense of privacy will be minimized by only using data collected from students who have agreed for us to do so (through student assent and signed distribution of passive parental consent forms) and having the data coded in such a way to protect subjects' confidentiality.

There are no costs to respondents other than their time.

Estimated Annualized Burden Hours
Type of respondent | Form name | No. of respondents | No. of responses per respondent | Response burden (in hours) | Total burden hours
Control Schools (School districts surrounding Austin | Intake assessment | 400 | 1 | 15/60 | 100
| Baseline Survey | 300 | 1 | 1 | 300
| Completion Survey | 200 | 1 | 1 | 200
Independent School District) | Follow-up Survey 1 (12 month) | 200 | 1 | 1 | 200
Intervention Schools (Austin Independent School District) | Intake assessment | 400 | 1 | 15/60 | 100
| Baseline Survey | 300 | 1 | 1 | 300
| Completion Survey | 200 | 1 | 1 | 200
| Follow-up Survey 1 (12 month) | 200 | 1 | 1 | 200
ERSG Facilitator | ERSG Facilitator Program Implementation Fidelity Measure | 8 | 2 | 15/60 | 4
ERSG Facilitator Supervisor | ERSG Observational Program Implementation Fidelity Measure | 1 | 16 | 15/60 | 4
ERSG Facilitator | Mid-Year Qualitative Interview with ERSG Facilitators | 8 | 1 | 45/60 | 6
ERSG Facilitator | End of Year Qualitative Interview with ERSG Facilitators | 8 | 1 | 1 | 8
Total |  |  |  |  | 1622

Dated: March 21, 2013.
Ron A. Otten,
Director, Office of Scientific Integrity, Office of the Associate Director for Science, Office of the Director, Centers for Disease Control and Prevention.

[FR Doc. 2013-07232 Filed 3-27-13; 8:45 am]

BILLING CODE 4163-18-P